DEPARTMENT OF COMMERCE

International Trade Administration

[A-533-809]

Certain Forged Stainless Steel Flanges From India: Rescission of New Shipper Review

AGENCY: Import Administration, International Trade Administration, U.S. Department of Commerce.

ACTION: Rescission of new shipper review.

SUMMARY: On March 28, 2001, the Department initiated a new shipper review of certain forged stainless steel flanges from India for Metal Forgings Pvt. Ltd. (Metal Forgings). Pursuant to section 351.214(f)(2)(ii) of the Department's regulations, we find that an expansion of the normal review period to include the entry of the subject merchandise would be likely to prevent the completion of the review within the time limits set by the Department's regulations, and therefore we are rescinding this new shipper review.

EFFECTIVE DATE: November 21, 2001.

FOR FURTHER INFORMATION CONTACT: Thomas Killiam or Mike Heaney, Enforcement Group III, Office 8, Import Administration, International Trade Administration, U.S. Department of Commerce, 1401 Constitution Avenue, NW., Washington, DC 20230; telephone: 202-482-5222 and 202-482-4475, respectively.

SUPPLEMENTARY INFORMATION:

Applicable Statute and Regulations

Unless otherwise indicated, all citations to the Tariff Act of 1930, as amended (the Act), are references to the provisions effective January 1, 1995, the effective date of the Uruguay Round Agreements Act. In addition, unless otherwise indicated, all citations to the Department's regulations are to the regulations codified at 19 CFR part 351 (2001).

Background

On March 28, 2001, the Department initiated a new shipper review of certain forged stainless steel flanges from India, for the period February 1, 2000 through January 31, 2001 manufactured or exported by Metal Forgings. See Certain Stainless Steel Flanges from India, 66 FR 16905. Metal Forgings' responses to our original and supplemental questionnaires showed that its merchandise was not loaded for export until April 26, 2001, and therefore could not have entered the United States until, at the earliest, sometime in the fourth month after the conclusion of the period of review (POR).

Rescission of Review

Under section 351.214(f)(2)(ii) of the Department's regulations, when the sale of the subject merchandise occurs within the POR, but the entry occurs after the normal POR, the POR may be extended unless it would be likely to prevent the completion of the review within the time limits set by the Department's regulations. The regulations do not provide a definitive date by which the entry must occur, but the preamble to the Department's regulations state that both the entry and the sale should occur during the POR, and that only under “appropriate” circumstances should the POR be extended when the entry is made after the POR. See Antidumping Duties; Countervailing Duties; Final Rule, 62 FR 27296, 27319 (May 19, 1997).

The Department has in many cases extended the POR by 30 days in order to capture entries of POR sales, when the 30-day extension is not likely to pose significant obstacles to completing a new shipper review within the time limits established by the Department's regulations. However, the shipment in this case was made over 30 days after the sale, and an extension of the POR to include the entry would pose significant obstacles to the timely completion of this new shipper review. See “Memorandum to Richard Weible, Certain Forged Stainless Steel Flanges (Flanges) from India, Subject: Rescission of New Shipper Review,” dated August 9, 2001. Accordingly, we are rescinding the new shipper review of Metal Forgings for the period February 1, 2000 through January 31, 2001.

We note that the respondent may renew its request for a new shipper review, pursuant to the deadlines provided by section 351.214(d) of the Department's regulations. If Metal Forgings renews its request and if the review request and the reported transaction conform to requirements, we will conduct a new shipper review per section 351.214(g)(1)(i), and the POR will include both the sale and the entry.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation. This determination is issued in accordance with 19 CFR 351.214(4)(2) and section 777(i)(1) of the Act.

Dated: November 13, 2001.
Joseph A. Spetrini,
Deputy Assistant Secretary for Import Administration, Group III.

[FR Doc. 01-29147 Filed 11-20-01; 8:45 am

BILLING CODE 3510-DS-P